DEPARTMENT OF TRANSPORTATION

Federal Aviation Administration

14 CFR Part 71

[Docket No. FAA-2022-1424; Airspace Docket No. 22-AEA-11]

RIN 2120-AA66

Proposed Amendment of VOR Federal Airways V-268 and V-474, Revocation of Jet Route J-518 and VOR Federal Airway V-119, and Establishment of Area Navigation Route Q-178 in the Vicinity of Indian Head, PA

AGENCY: Federal Aviation Administration (FAA), DOT.

ACTION: Notice of proposed rulemaking (NPRM).

SUMMARY: This action proposes to amend VHF Omnidirectional Range (VOR) Federal airways V-268 andV-474, revoke Jet Route J-518 and VOR Federal airway V-119, and establish Area Navigation (RNAV) route Q-178. The FAA is proposing this action due to the planned decommissioning of the VOR portion of the Indian Head, PA, VOR/Tactical Air Navigation (VORTAC) navigational aid (NAVAID). The Indian Head VOR is being decommissioned in support of the FAA's VOR Minimum Operational Network (MON) program.

DATES: Comments must be received on or before January 12, 2023.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-1424; Airspace Docket No. 22-AEA-11 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1424 Airspace; Docket No. 22-AEA-11) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1424; Airspace Docket No. 22-AEA-11.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Background

The FAA is planning to decommission the Indian Head, PA, VOR in June 2023. The Indian Head VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Indian Head, PA, VORTAC is planned for decommissioning, the co-located Distance Measuring Equipment (DME) portion of the NAVAID is being retained to support NextGen PBN flight procedure requirements.

The air traffic service (ATS) routes effected by the Indian Head VOR decommissioning are Jet Route J-518 and VOR Federal airways V-119, V-268, and V-474. With the planned decommissioning of the Indian Head VOR, the remaining ground-based NAVAID coverage in the area is insufficient to enable the continuity of the affected ATS routes. As such, proposed modifications to V-268 and V-474 would result in the affected airway segments being removed and the airways being shortened; and to J-518 and V-119 would result in the ATS routes being revoked.

To overcome the proposed modifications and revocations to the affected ATS routes, instrument flight rules (IFR) traffic could use portions of adjacent ATS routes, including Jet Routes J-60, J-162, and J-211 in the high altitude enroute structure and V-12, V-44, V-469, and V-501 in the low altitude enroute structure, or receive air traffic control (ATC) radar vectors to circumnavigate or fly through the affected area. Pilots equipped with RNAV capabilities could also navigate in the high altitude and low altitude enroute structures point to point using existing NAVAIDs and fixes that would remain in place to support continued operations through the affected area. Visual flight rules (VFR) pilots who elect to navigate via the affected ATS routes could also take advantage of the adjacent ATS routes or ATC services listed previously.

The FAA also proposes to establish RNAV route Q-178 between the Dryer, OH, VOR/Distance Measuring Equipment (VOR/DME) and the Baltimore, MD, VORTAC NAVAIDs. The new Q-route would mitigate the proposed revocation of J-518 due to the planned decommissioning of the Indian Head VOR, reduce ATC sector workload and complexity, and reduce pilot-to-controller communications. The new Q-route would also provide RNAV equipped aircraft an ATS route alternative and support the FAA's NextGen efforts to modernize the NAS navigation system from a ground-based system to a satellite-based system.

The Proposal

The FAA is proposing an amendment to 14 CFR part 71 to amend VOR Federal airways V-268 and V-474, revoke Jet Route J-518 and VOR Federal airway V-119, and establish RNAV route Q-178. The ATS route amendments, revocations, and establishment are due to the planned decommissioning of the Indian Head, PA, VOR. The proposed ATS route actions are described below.

J-518: J-518 currently extends between the Dryer, OH, VOR/DME and the Baltimore, MD, VORTAC via the Indian Head, PA, VORTAC. The FAA proposes to remove the route in its entirety.

Q-178: Q-178 is a new RNAV route proposed to extend between the Dryer, OH, VOR/DME and the Baltimore, MD, VORTAC via the LEJOY, PA, Fix located approximately 4 nautical miles (NM) northwest of the Indian Head VORTAC. This new Q-route would mitigate the proposed revocation of J-518 and provide RNAV routing between the Cleveland, OH, area and the Baltimore, MD, area. The new Q-178 would provide the high altitude enroute structure necessary to replace the loss of J-518 and maintain the connectivity to multiple instrument approach procedures for various airports.

V-119: V-119 currently extends between the Parkersburg, WV, VOR/DME and the Indian Head, PA, VORTAC. The FAA proposes to remove the airway in its entirety.

V-268: V-268 currently extends between the intersection of the Morgantown, WV, VOR/DME 010° and Johnstown, PA, VOR/DME 260° radials (NESTO Fix) and the Augusta, ME, VOR/DME. The airspace within restricted area R-4001B and the airspace below 2,000 feet mean sea level (MSL) outside the United States is excluded. The FAA proposes to remove the airway segment overlying the Indian Head VORTAC between the NESTO Fix and the Hagerstown, MD, VOR. As amended, the airway would extend between the Hagerstown VOR and the Augusta VOR/DME.

V-474: V-474 currently extends between the intersection of the Morgantown, WV, VOR/DME 010° and Johnstown, PA, VOR/DME 260° radials (NESTO Fix) and the Modena, PA, VORTAC. The FAA proposes to remove the airway segment overlying the Indian Head VORTAC between the NESTO Fix and the St. Thomas, PA, VORTAC. As amended, the airway would extend between the St. Thomas VORTAC and the Modena VORTAC.

The NAVAID radials listed in the ATS route descriptions below are unchanged and stated in True degrees.

Jet Routes are published in paragraph 2004, United States Area Navigation Routes (Q-routes) are published in paragraph 2006, and VOR Federal airways are published in paragraph 6010(a) of FAA Order JO 7400.11G, dated August 19, 2022, and effective September 15, 2022, which is incorporated by reference in 14 CFR 71.1. The ATS routes and reporting point listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-518 [Removed]

* * * * *

Paragraph 2006 United States Area Navigation Routes.

* * * * *

Q-178 Dryer, OH (DJB) to Baltimore, MD (BAL) [New]
Dryer, OH (DJB) | VOR/DME | (Lat. 41°21′29.03″ N, long. 082°09′43.09″ W)
LEJOY, PA | FIX | (Lat. 40°00′12.22″ N, long. 079°24′53.61″ W)
Baltimore, MD (BAL) | VORTAC | (Lat. 39°10′15.83″ N, long. 076°39′40.52″ W)

* * * * *

Paragraph 6010(a) Domestic VOR Federal Airways.

* * * * *

V-119 [Removed]

* * * * *

V-268 [Amended]

From Hagerstown, MD; Westminster, MD; Baltimore, MD; INT Baltimore 093° and Smyrna, DE, 262° radials; Smyrna; INT Smyrna 086° and Sea Isle, NJ, 050° radials; INT Sea Isle 050° and Hampton, NY, 223° radials; Hampton; Sandy Point, RI; INT Sandy Point 031° and Kennebunk, ME, 180° radials; INT Kennebunk 180° and Boston, MA, 032° radials; INT Boston 032° and Augusta, ME, 195° radials; to Augusta. The airspace within R-4001B and the airspace below 2,000 feet MSL outside the United States is excluded.

* * * * *

V-474 [Amended]

From St. Thomas, PA; INT St. Thomas 088° and Modena, PA, 274° radials; to Modena.

* * * * *

Issued in Washington, DC, on November 21, 2022.
Scott M. Rosenbloom,
Manager, Airspace Rules and Regulations.

[FR Doc. 2022-25822 Filed 11-25-22; 8:45 am]

BILLING CODE 4910-13-P